DEPARTMENT OF COMMERCE

[I.D. 112604B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Marine Recreational Fisheries Statistics Survey.

Form Number(s): None.

OMB Approval Number: 0648-0052.

Type of Request: Regular submission.

Burden Hours: 43,934.

Number of Respondents: 712,229.

Average Hours Per Response: 7 minutes for fishing households; 7 minutes for party/charter boat operators; 4.5 minutes for intercepted anglers; 3 minutes for supplemental economic data from fishing households; 5 minutes for supplemental economic data from party/charter boat operators; 8 minutes for supplemental economic data from intercepted anglers; 1.5 minutes for verification calls; 1 minute for non-fishing households, and .5 minutes for non-households.

Needs and Uses: Marine recreational anglers are surveyed for catch and effort data, fish biology data, and angler socioeconomic characteristics. These data are required to carry out provisions of the Magnuson-Stevens Fishery Conservation and Management Act (16 U.S.C. 1801 et seq.), as amended, regarding conservation and management of fishery resources.

Affected Public: Business or other for-profit, and individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 23, 2004.
Gwellnar Banks,
Management Analyst, Office of the Chief Information Officer.

[FR Doc. 04-26514 Filed 11-30-04; 8:45 am]

BILLING CODE 3510-22-S